DEPARTMENT OF HEALTH AND HUMAN SERVICES

Health Resources and Services Administration

Agency Information Collection Activities: Proposed Collection: Public Comment Request; Information Collection Request Title: Evidence-Based Telehealth Network Program Measures, OMB No. 0906-xxxx-New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than June 7, 2019.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Lisa Wright-Solomon, the HRSA Information Collection Clearance Officer at (301) 443-1984.

SUPPLEMENTARY INFORMATION: When submitting comments or requesting information, please include the information request collection title for reference.

Information Collection Request Title: Evidence-Based Telehealth Network Program Measures, OMB No. 0906-xxxx-New

Abstract: This ICR is for a new approval of measures for HRSA's Federal Office of Rural Health Policy's Office of Advancement of Telehealth programs. Specifically, grants administered in accordance with the following legislative statutes (i) Section 330I(d)(1) of the Public Health Service Act (42 U.S.C. 254c14(d)(1)), as amended and (ii) Section 711(b) of the Social Security Act (42 U.S.C. 912(b)), as amended. The purpose of these programs are to provide grants that demonstrate how telehealth programs and networks can improve access to quality health care services in rural, frontier, and underserved communities. These grants will work to: (a) expand access to, coordinate, and improve the quality of health care services; (b) improve and expand the training of health care providers; and (c) expand and improve the quality of health information available to health care providers, patients and their families for decision-making. In addition, these grants will help HRSA assess the effectiveness of evidence based practices with the use of telehealth for patients, providers, and payers.

Need and Proposed Use of the Information: The measures will enable HRSA to capture awardee-level and aggregate data that illustrate the impact and scope of federal funding along with assessing these efforts. The measures cover the principal topic areas of interest to HRSA including: (a) population demographics, (b) access to health care, (c) cost savings and cost-effectiveness, and (d) clinical outcomes.

Likely Respondents: The respondents will be award recipients of the Evidence Based Telehealth Network Program and Telehealth Network Grant Program.

Burden Statement: Burden in this context means the time expended by persons to generate, maintain, retain, disclose or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent (annually) | Total responses | Average burden per response (in hours) | Total burden hours
Evidence-Based Telehealth Network Program Report | 50 | 12 | 600 | 31.0 | 18,600
Telehealth Performance Measurement Report | 50 | 1 | 50 | 5.0 | 250
Telehealth Evidence Collection Report | 36 | 12 | 432 | 37.5 | 16,200
Total | 50* |  | 1,082 |  | 35,050
* There are 50 unique respondents. All respondents will be responding to the first two forms and a subset will be responding to the third form.

HRSA specifically requests comments on: (1) the necessity and utility of the proposed information collection for the proper performance of the agency's functions; (2) the accuracy of the estimated burden; (3) ways to enhance the quality, utility, and clarity of the information to be collected; and (4) the use of automated collection techniques or other forms of information technology to minimize the information collection burden.

Amy P. McNulty,
Acting Director, Division of the Executive Secretariat.

[FR Doc. 2019-06768 Filed 4-5-19; 8:45 am]

BILLING CODE 4165-15-P